DEPARTMENT OF THE INTERIOR

Bureau of Land Management

[WY-030-1310-DB]

Continental Divide/Wamsutter II Natural Gas Project

AGENCY: Bureau of Land Management, Interior.

ACTION: Notice of Availability of the Record of Decision for the Continental Divide/Wamsutter II Natural Gas Project, Carbon and Sweetwater Counties, Wyoming.

SUMMARY: Pursuant to the National Environmental Policy Act (NEPA) and implementing regulations, the Bureau of Land Management (BLM) announces the availability of the Record of Decision (ROD) for the Continental Divide/Wamsutter II (CD/WII) Natural Gas Project in Sweetwater and Carbon Counties, Wyoming. The BLM adopts the Proposed Action as outlined in the Final Environmental Impact Statement (Final EIS) completed for this project; however, the BLM has elected to reduce the total number of proposed natural gas wells and associated facilities. Development will be reduced from the proposed 3,000 well at 3,000 well locations to allow up to 2,130 wells at 2,130 well locations within the project area. Associated access roads, pipelines, and other ancillary facilities will be reduced as well. Allowance of the remaining 870 wells/well locations and associated facilities will be reconsidered pending completion of a planning review of the Great Divide Resource Area (GDRA) Resource Management Plan (RMP) for the Rawlins Field Office (RFO) area. The Proposed Action, as modified, is the BLM's environmentally preferred alternative.

DATES: This decision may be appealed to the Interior Board of Land Appeals, Office of the Secretary, in accordance with the regulations contained in 43 Code of Federal Regulations (CFR) 3165.4(c). If an appeal is filed, the notice of appeal must be filed with the BLM Wyoming State Director, 5353 Yellowstone Road, P.O. Box 1829, Cheyenne, Wyoming 82003, within 30 days of the date the notice of the decision appears in the Federal Register. The appellant has the burden of showing that the decision appealed from is in error.

If you wish to file a petition pursuant to 43 CFR 3165.4(c) for a stay (suspension) of the effectiveness of this decision during the time that your appeal is being reviewed by the Board, the petition for a stay must accompany your notice of appeal. A petition for a stay is required to show sufficient justification based on the standards listed in 43 CFR 3165.4(c). Copies of the notice of appeal and petition for a stay must also be submitted to the Interior Board of Land Appeals and to the appropriate office of the Solicitor at the same time the original documents are filed with BLM Wyoming State Director. If you request a stay, you have the burden of proof to demonstrate that a stay should be granted.

FOR FURTHER INFORMATION CONTACT: Contact either Clare Miller, BLM, Rawlins Field Office, at 307-328-4245; or Teri Deakins, BLM, Rock Springs Field Office, at 307-352-0211; or Tom Enright, BLM, Wyoming State Office, at 307-775-6329. Copies of the EIS and ROD are available from the BLM at the following locations: Rawlins Field Office, P.O. Box 2407, 1300 North Third Street, Rawlins, Wyoming, 82301; Rock Springs Field Office, 280 Highway 191 North, Rock Springs, Wyoming 82901; the Wyoming State Office, P.O. Box 1828, 5353 Yellowstone Road, Cheyenne, Wyoming, 82009; and on the Wyoming NEPA documents Web Site at www.wy.blm.gov./nepa/nfdocs.html.

SUPPLEMENTARY INFORMATION: In accordance with Section 102 of the National Environmental Policy Act (NEPA), as amended, a Final EIS addressing a natural gas development project in Sweetwater and Carbon Counties, Wyoming, was issued by the BLM in December 1999. The Final EIS addressed the potential impacts of exploration and development of up to 3,000 natural gas wells and associated facilities. The BLM decision is to approve the Operators' development plan as described in the Proposed Action of the CD/WII Final Environmental Impact Statement (EIS) with the following modifications. Development will be reduced from the proposed 3,000 wells at 3,000 well locations to allow up to 2,130 wells at 2,130 well locations within the project area along with associated access roads, pipelines, a gas processing facility, and associated ancillary facilities. Allowance of the remaining 870 wells/well locations (not more than 435 wells or well locations on Federal lands, and/or Federal mineral estate) with associated facilities will be considered pending completion of a planning review of the Great Divide Resource Area Resource Management Plan for the Rawlins Field Office area.

This ROD will allow approximately 930 new wells/well locations within the jurisdictional boundary of the Rock Springs Field Office (RSFO) area (not more than 465 wells or well locations on Federal lands and/or Federal mineral estate) and will allow 1,200 new wells/well locations within the jurisdictional boundary of the Rawlins Field Office (RFO) area (not more than 600 wells or well locations on Federal lands, and/or Federal mineral estate) for a total of 2,130 well locations. This is assuming 50 percent of the wells will be drilled on Federal lands and/or mineral estate. Should private/State land development trends exceed 50 percent of the wells, the number of wells permitted on Federal estate will be limited accordingly. The total amount of new roads and new pipelines, and the number of ancillary facilities will be reduced to accommodate the number of wells drilled. This will include approximately 1,100 miles of access road, 1,100 miles of pipeline, 3-4 compressor stations, 3-4 water disposal wells, 7 water evaporation facilities, 36 water wells, and 1 gas processing facility.

Approval of the Proposed Action, as modified, provides for managing the CD/WII project area in accordance with the Federal Land Policy and Management Act (FLPMA) (Sec. 202(e)), in a manner that allows for natural gas development while continuing to provide for the existing principal and major uses recognized by the land use plans (i.e. domestic livestock grazing, wildlife development and utilization, mineral exploration and production, and outdoor recreation) for this area. The Proposed Action, as modified, sustains the long-term availability of other resources while promoting stability of local and regional economies, environmental integrity, and conservation of resources for future generations. The approved action, as modified, will also provide for complete conformance with BLM RMPs for both the RSFO and the RFO areas. Reducing the number of wells and associated facilities to be developed within the jurisdictional boundary of the RFO area will help ensure the project will comply with the current reasonably foreseeable oil and gas development scenarios projected in the GDRA RMP and the planning decisions these projections may have influenced. Furthermore, the reduction in the allowable wells and the associated development for this project provides an opportunity for other oil and gas activity to occur outside the project area while a review of the existing GDRA RMP is being completed. The decision is consistent with all Federal, State, and county authorizing actions required to implement the project and with National policy. More detailed rationale and justification for the decision to select the Proposed Action with modifications are outlined in the ROD.

Dated: June 14, 2000.
Alan R. Pierson,
State Director.

[FR Doc. 00-15581 Filed 6-20-00; 8:45 am]

BILLING CODE 4310-22-P